DEPARTMENT OF THE INTERIOR

Bureau of Indian Affairs

Notice of Cancellation of the Environmental Impact Statement for the Lower Lake Rancheria Casino-Hotel Project, Oakland, CA

AGENCY: Bureau of Indian Affairs, Interior.

ACTION: Notice.

SUMMARY: This notice announces that the Bureau of Indian Affairs (BIA) intends to cancel work on the Environmental Impact Statement (EIS) for the Lower Lake Rancheria's proposed casino and hotel project, to have been located in Oakland, California. The EIS is no longer needed because the Lower Lake Rancheria Koi Nation has not submitted a complete land acquisition application per 25 CFR 151 and has ceased pursuing activity on the EIS.

DATES: This cancellation is effective June 20, 2008. Any written comments must arrive by June 19, 2008.

ADDRESSES: You may mail or hand carry written comments to Amy Dutschke, Acting Regional Director, Pacific Regional Office, Bureau of Indian Affairs, 2800 Cottage Way, Sacramento, CA 95825.

FOR FURTHER INFORMATION CONTACT: John Rydzik, (916) 978-6042.

SUPPLEMENTARY INFORMATION: The BIA published its Notice of Intent to prepare the EIS on November 26, 2004, in the Federal Register (69 FR 68970). The notice included project details.

Public Comment Availability

Comments, including names and addresses of respondents, will be available for public review at the BIA address shown in the ADDRESSES section, during regular business hours, 8 a.m. to 4:30 p.m., Monday through Friday, except holidays. Before including your address, phone number, e-mail address, or other personal identifying information in your comment, you should be aware that your entire comment—including your personal identifying information—may be made publicly available at any time. While you can ask us in your comment to withhold your personal identifying information from public review, we cannot guarantee that we will be able to do so.

Authority

This notice is published in accordance with sections 1503.1 and 1506.6 of the Council on Environmental Quality Regulations (40 CFR parts 1500 through 1508) implementing the procedural requirements of the National Environmental Policy Act of 1969, as amended (42 U.S.C. 4321 et seq.), and the Department of the Interior Manual (516 DM 1-6), and is in the exercise of authority delegated to the Assistant Secretary—Indian Affairs by 209 DM 8.1.

Dated: May 2, 2008.
Carl J. Artman,
Assistant Secretary—Indian Affairs.

[FR Doc. E8-11150 Filed 5-16-08; 8:45 am]

BILLING CODE 4310-W7-P